DEPARTMENT OF TRANSPORTATION

Federal Aviation Administration

14 CFR Part 39

[Docket No. FAA-2009-0559; Directorate Identifier 2008-SW-66-AD]

RIN 2120-AA64

Airworthiness Directives; Sikorsky Aircraft Corporation (Sikorsky) Helicopters

AGENCY: Federal Aviation Administration (FAA), DOT.

ACTION: Proposed rule; withdrawal.

SUMMARY: The FAA is withdrawing a notice of proposed rulemaking (NPRM). The NPRM proposed a new airworthiness directive (AD) for Sikorsky Model S-92A helicopters. The proposed action would have required revising the Limitations section of the Rotorcraft Flight Manual (RFM) to clarify that the Model S-92A helicopter was certificated as a transport category rotorcraft in both Categories A and B with different operating limitations for each category and must be operated accordingly. Since we issued the NPRM, we have determined that operating the helicopter in Category B with 10 or more passenger seats is not an unsafe condition but an inconsistency with 14 CFR 29.1(c). Accordingly, we withdraw the proposed rule.

DATES: As of March 14, 2016, the proposed rule to amend 14 CFR part 39 published June 19, 2009 (74 FR 29148) is withdrawn.

FOR FURTHER INFORMATION CONTACT: John Coffey, Flight Test Engineer, Boston Aircraft Certification Office, Engine & Propeller Directorate, FAA, 1200 District Avenue, Burlington, Massachusetts 01803; telephone (781) 238-7173; email john.coffey@faa.gov.

SUPPLEMENTARY INFORMATION: The FAA proposed to amend 14 CFR part 39 to add a new AD (74 FR 29148, June 19, 2009) for Sikorsky Model S-92A helicopters. The NPRM proposed to require revising the Limitations section of the RFM by clarifying that the Model S-92A helicopter was certificated as a transport category rotorcraft in both Categories A and B with different operating limitations for each category and must be operated accordingly. When the Model S-92A is configured with 10 or more passenger seats, it is a Category A helicopter, and operators must follow the limitations for Category A. When it is configured with 9 or fewer passenger seats, it may be considered a Category B helicopter, and operators may follow the less stringent Category B limitations. At the time the NPRM was published, the limitation language in the RFM did not make a clear distinction between Category A and Category B based on the seating configuration. The proposed actions were intended to prevent operating under less stringent requirements.

Actions Since NPRM (74 FR 29148, June 19, 2009) Was Issued

Since we issued the NPRM (74 FR 29148, June 19, 2009), one commenter noted the proposed AD misinterprets certification rules as operational rules. We considered the comment and re-evaluated the details that went into the determination of the unsafe condition for this concern. We determined that operating the helicopter in Category B with 10 or more passengers is not an unsafe condition, and the associated level of risk does not warrant AD action. Rather, this was an inconsistency with 14 CFR 29.1(c). Sikorsky has since revised the RFM to clarify that a helicopter configured with a maximum of 19 passenger seats must be operated as a Category A but if configured with 9 or fewer passenger seats may be operated as a Category B. This action mitigates the inconsistency with 14 CFR 29.1(c).

Withdrawal of the NPRM constitutes only such action and does not preclude the agency from issuing another notice in the future nor does it commit the agency to any course of action in the future.

Since this action only withdraws an NPRM, it is neither a proposed nor a final rule; therefore, it is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2009-0559; Directorate Identifier 2008-SW-66-AD, published in the Federal Register on June 19, 2009 (74 FR 29148), is withdrawn.

Issued in Fort Worth, Texas, on March 4, 2016.
Scott A. Horn,
Acting Manager, Rotorcraft Directorate, Aircraft Certification Service.

[FR Doc. 2016-05517 Filed 3-11-16; 8:45 am]

BILLING CODE 4910-13-P